DEPARTMENT OF THE INTERIOR

Bureau of Indian Affairs

25 CFR Chapter I

Meetings of the No Child Left Behind Negotiated Rulemaking Committee

AGENCY: Bureau of Indian Affairs, Interior.

ACTION: Announcement of negotiated rulemaking committee meetings.

SUMMARY: The Secretary of the Interior has established an advisory Committee to develop recommendations for proposed rules for Indian education under six sections of The No Child Left Behind Act of 2001. As required by the Federal Advisory Committee Act, we are announcing dates and locations of the next three meetings of the No Child Left Behind Negotiated Rulemaking Committee.

DATES AND ADDRESSES: The Committee's next three meeting dates and locations are :

July 14-18, 2003 Minneapolis, MN Marriott Airport Hotel, 2020 East 79th Street, Bloomington, MN 55425 (beginning July 14 at 1:30 p.m. CDT and ending July 18 at 12 noon CDT)

August 21-24, 2003 Seattle, WA Grand Hyatt Hotel, 721 Pine Street, Seattle, WA 98101 September 15-19, 2003 Nashville, TN Opryland Hotel, 2800 Opryland Drive, Nashville, TN, 37214.

FOR FURTHER INFORMATION CONTACT: Barbara James or Shawna Smith, No Child Left Behind Negotiated Rulemaking Project Management Office, PO Box 1430, Albuquerque, NM 87103-1430; telephone (505) 248-7241; fax (505) 248-7242; e-mail bjames@bia.edu or ssmith@bia.edu. We will post additional information as it becomes available on the Office of Indian Education Programs Web site under “Negotiated Rulemaking” at http//www.oiep.bia.edu.

SUPPLEMENTARY INFORMATION: The No Child Left Behind Negotiated Rulemaking Committee is an advisory committee formed under the No Child Left Behind Act of 2001, the Negotiated Rulemaking Act, and the Federal Advisory Committee Act. The purpose of the Committee is to negotiate and reach consensus on recommendations for proposed rules for Indian education under six sections of The No Child Left Behind Act of 2001. For more information on negotiated rulemaking under The No Child Left Behind Act, see the Federal Register notices published on December 10, 2002 (67 FR 75828) and May 5, 2003 (68 FR 23631) or the Web site at http//www.oiep.bia.edu under “Negotiated Rulemaking.”

At the next three meetings the Committee will divide into the four work groups established by the Committee at its last meeting. The work groups are: Student Rights and Geographic Boundaries; Tribally Controlled Schools Act/Grants; Adequate Yearly Progress; and Funding and Distribution of Funds. The Committee will also meet in full session each day for work group reports and logistics. All meetings are open to the public. There is no requirement for advance registration for members of the public who wish to attend and observe the Committee meetings or the work group meetings or to make public comments. The agenda for the July 14-18, 2003, meeting is as follows:

Agenda for No Child Left Behind Negotiated Rulemaking Committee Meeting, July 14-18, 2003

July 14

Opening—1:30 p.m.

Committee meeting—Introductions, Logistics, and Housekeeping

Work Group meetings

July 15

Public comments—8:30 a.m.

Committee meeting

Work group reports

Work group meetings

July 16

Public comments—8:30 a.m.

Committee meeting

Work group reports

Work group meetings

July 17

Public comments—8:30 a.m.

Committee meeting

Work group reports

Work group meetings

July 18

Public comments—8:30 a.m.

Committee meeting—set agenda for next meeting

Closing—noon

It is necessary to hold this meeting at this time to meet the mandated date for publishing the proposed rule. Due to scheduling conflicts, we could not finalize the meeting arrangements in time to publish this notice more than 15 days before the start of the meeting.

Dated: June 25, 2003.
Aurene M. Martin,
Acting Assistant Secretary—Indian Affairs.

[FR Doc. 03-16578 Filed 6-26-03; 2:11 p.m.]

BILLING CODE 4310-6W-P